DEPARTMENT OF DEFENSE

Department of the Army; Corps of Engineers

Cancellation of the Notice of Intent To Prepare a Draft Environmental Impact Statement for the Acme Basin B Discharge Project

AGENCY: Department of the Army, U.S. Army Corps of Engineers, DOD.

ACTION: Notice; cancellation.

SUMMARY: The Jacksonville District, U.S. Army Corps of Engineers hereby cancels its Notice of Intent to prepare a Draft Environmental Impact Statement (DEIS) for the Acme Basin B Discharge Project, as published in Federal Register on Friday, May 24, 2002 (67 FR 36577).

The notice is canceled because, during scoping for this project and development of alternatives, it appeared that each of the alternatives would affect the same 410 acres of agricultural lands, converting sugar cane into functional wetlands, resulting in discharge of cleaner water into Loxahatchee National Wildlife Refuge (WCA-1), increasing the spatial extent of Everglades wetlands and reducing freshwater flows into Lake Worth Lagoon. While all of these effects are environmentally beneficial, the relative magnitude of the impacts in the context of greater Everglades's restoration was determined not to be significant. There are not expected to be any adverse impacts on public health and safety; the affected area (Acme Basin B) is not environmentally unique; the significant WCA-1 wetlands will benefit by a relatively small increment, as will Lake Worth Lagoon. No public controversy related to the proposed alternatives developed during scoping for this project, nor are there high levels of uncertainty, unique or unknown risks associated with the study, nor have surveys revealed the presence of any significant wildlife, cultural resource elements or contaminants.

An environmental Assessment will be prepared and coordinated for the proposed action. This document is expected to be available in August 2005.

FOR FURTHER INFORMATION CONTACT: Ms. Nancy Allen, Flood Control and Flood Plain Management Section, Planning Division, Jacksonville District, Corps of Engineers, Post Office Box 4970, Jacksonville, FL 32232-0019, Phone: (904) 232-3206.

SUPPLEMENTARY INFORMATION: None.

Dated: February 22, 2005.
James C. Duck,
Chief, Planning Division.

[FR Doc. 05-4178 Filed 3-3-05; 8:45 am]

BILLING CODE 3710-AJ-M